DEPARTMENT OF ENERGY

Federal Energy Regulatory Commission

[Docket No. ER02-557-001, et al.]

Reliant Energy Desert Basin, LLC, et al.; Electric Rate and Corporate Regulation Filings

April 30, 2002.

The following filings have been made with the Commission. The filings are listed in ascending order within each docket classification.

1. Reliant Energy Desert Basin, LLC

[Docket No. ER02-557-001]

Take notice that on April 24, 2002, pursuant to the Letter Order issued March 29, 2002 in the captioned docket, Reliant Energy Desert Basin, LLC tendered for filing a long-term service agreement under its market-based rate tariff, with the service agreement designated as required by Order No. 614.

Comment Date: May 15, 2002.

2. Midwest Independent Transmission System Operator, Inc.

[Docket No. ER02-1422-001]

Take notice that on April 16, 2002, the Midwest Independent Transmission System Operator, Inc. ( the Midwest ISO) tendered for filing corrections to certain errata contained in the Joint Open Access Transmission Tariff for the Midwest Independent Transmission System Operator, Inc for the Transmission System (Michigan), FERC Electric Tariff, Original Volume No. 2, which was filed on March 29, 2002, in the above referenced docket.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment Date: May 13, 2002.

3. Reliant Energy Aurora, LP, Reliant Energy Coolwater, LLC, Reliant Energy Desert Basin, LLC, Reliant Energy Ellwood, LLC, Reliant Energy Etiwanda, LLC, Reliant Energy Indian River, LLC, Reliant Energy Mandalay, LLC, Reliant Energy Maryland Holdings, LLC, Reliant Energy Mid-Atlantic Power Holdings, LLC, Reliant Energy New Jersey Holdings, LLC, Reliant Energy Ormond Beach, LLC, Reliant Energy Osceola, LLC, Reliant Energy Services, Inc., Reliant Energy Shelby County, LP, El Dorado Energy, LLC, Astoria Generating Company, L.P., Carr Street Generating Station, L.P., Erie Boulevard Hydropower, L.P., Liberty Electric Power, LLC, Orion Power MidWest, L.P., Twelvepole Creek, LLC

[Docket No. ER02-1635-000]

Take notice that on April 22, 2002, Astoria Generating Company, L.P., Carr Street Generating Station, L.P., Erie Boulevard Hydropower, L.P., Liberty Electric Power, LLC, Orion Power MidWest, L.P., and Twelvepole Creek, LLC (collectively, the Orion Entities) tendered for filing pursuant to Section 205 of the Federal Power Act, and Part 35 of the Federal Energy Regulatory Commission's (Commission) regulations, 18 CFR 35 revised market-based rate tariffs in connection with the recent merger of Reliant Energy Power Generation Merger Sub, Inc. (Merger Sub) and the Orion Entities' parent company, Orion Power Holdings, Inc. (Orion Power). In addition, Reliant Energy Aurora, LP, Reliant Energy Coolwater, LLC, Reliant Energy Desert Basin, LLC, Reliant Energy Ellwood, LLC, Reliant Energy Etiwanda, LLC, Reliant Energy Indian River, LLC, Reliant Energy Mandalay, LLC, Reliant Energy Maryland Holdings, LLC, Reliant Energy Mid-Atlantic Power Holdings, LLC, Reliant Energy New Jersey Holdings, LLC, Reliant Energy Ormond Beach, LLC, Reliant Energy Osceola, LLC, Reliant Energy Services, Inc., Reliant Energy Shelby County, LP and El Dorado Energy, LLC (collectively, the Reliant Affiliates), amended their market-based rate tariffs to remove restrictions applicable only while the merger of Merger Sub and Orion Power was pending.

The Reliant Affiliates and the Orion Entities request waiver of the prior notice requirements of Section 35.3 of the Commission's regulations, 18 CFR 35.3, to permit their filing to become effective February 19, 2002.

Comment Date: May 13, 2002.

4. LG&E Capital Corporation

[Docket No. ER02-1636-000]

Take notice that on April 24, 2002, LG&E Capital Corporation tendered for filing a Notice of Cancellation pursuant to 18 CFR 35.15 in order to reflect the cancellation of its Market Rate Tariff, designated as FERC Electric Tariff, Original Volume No. 1, originally accepted for filing in Docket No. ER99-2108-000.

Comment Date: May 15, 2002.

5. California Independent System Operator Corporation

[Docket No. ER02-1637-000]

Take notice that on April 24, 2002, the California Independent System Operator Corporation (ISO) submitted for filing Amendment No. 43 to the ISO Tariff. Amendment No. 43 would modify Section 11.2.4.1 of the ISO Tariff such that, through September 30, 2002, the ISO will settle Energy imported into the ISO Control Area by Scheduling Coordinators for each BEEP interval during the operating hour at the ISO Instructed Imbalance Energy Market Clearing Price. The ISO requests that these modifications be made effective immediately upon Commission approval.

The proposed modification will make participation in the ISO Real Time Market more attractive for importers of Energy.

The ISO has served copies of this filing upon the Public Utilities Commission of the State of California, the California Energy Commission, the California Electricity Oversight Board, and on all parties with effective Scheduling Coordinator Service Agreements under the ISO Tariff. In addition, the ISO is posting this filing on the ISOs Home Page.

Comment Date: May 15, 2002.

6. New England Power Pool

[Docket No. OA97-237-012]

Take notice that on April 24, 2002, the New England Power Pool (NEPOOL) Participants Committee and ISO New England Inc. (ISO-NE) have jointly filed with the Federal Energy Regulatory Commission (Commission) for acceptance, materials reflecting compliance with the requirement of a certain settlement agreement approved by the Commission by order dated July 30, 1999, New England Power Pool, 88 FERC ¶ 61,140, that an audit of the charges for regional network service (RNS) under the formula rate provisions of the NEPOOL Tariff for charges in effect for the NEPOOL rate years June 1, 1997 through May 31, 2000 be performed by or under the direction of ISO-NE, and that the results of that audit be submitted to the Commission as an informational filing.

The Participants Committee states that copies of these materials were sent to the New England state governors and regulatory commissions, the NEPOOL Participants and to the parties who executed the settlement agreement.

Comment Date: May 24, 2002.

7. Avista Corporation; Bonneville Power Administration; Idaho Power Company; The Montana Power Company; Nevada Power Company; PacifiCorp; Portland General Electric Company; Puget Sound Energy, Inc.; Sierra Pacific Power Company

[Docket No. RT01-35-007]

Take notice that on April 22, 2002, Avista Corporation, the Bonneville Power Administration, Idaho Power Company, Nevada Power Company, NorthWestern Energy, L.L.C. (formerly the Montana Power Company), PacifiCorp, Portland General Electric Company, Puget Sound Energy, Inc., and Sierra Pacific Power Company, joined by British Columbia Hydro and Power Authority, a nonjurisdictional Canadian utility, (collectively, the filing utilities) filed with the Federal Energy Regulatory Commission (the Commission), an Errata Filing Relating to Stage 2 Filing and Request For Declaratory Order Pursuant to Order 2000. This filing corrects certain errors in the Stage 2 Filing and Request for Declaratory Order Pursuant to Order 2000, submitted to the Commission on March 29, 2002.

Comment Date: May 30, 2002.

Standard Paragraph

E. Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-11241 Filed 5-6-02; 8:45 am]

BILLING CODE 6717-01-P